SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 12, 2004.

ADDRESSES: Send all comments regarding whether this information collection is necessary for the proper performance of the function of the agency, whether the burden estimates are accurate, and if there are ways to minimize the estimated burden and enhance the quality of the collection, to Reginald B. Teamer, Examiner, Office of Small Business Development Centers, Small Business Administration, 409 3rd Street SW., Suite 6400, Washington, DC 20416.

FOR FURTHER INFORMATION CONTACT: Reginald B. Teamer, Examiner, 202-205-7278 or Curtis B. Rich, Management Analyst, 202-205-7030.

SUPPLEMENTARY INFORMATION: Title: “SBDC Counseling Record.”

Description of Respondents: Small Business Development Centers.

Form No: 1062.

Annual Responses: 264,000.

Annual Burden: 132,000.

ADDRESSES: Send all comments regarding whether these information collections are necessary for the proper performance of the function of the agency, whether the burden estimates are accurate, and if there are ways to minimize the estimated burden and enhance the quality of the collections, to Cynthia Pitts, Program Analyst, Office of Disaster Assistance, Small Business Administration, 409 3rd Street SW., Suite 6050, Washington, DC 20416.

FOR FURTHER INFORMATION CONTACT: Cynthia Pitts, Program Analyst, 202-205-7570 or Curtis B. Rich, Management Analyst, 202-205-7030.

SUPPLEMENTARY INFORMATION: Title: “Disaster Business Loan Application.”

Description: Applicants applying for Disaster Loans.

Form No's: 5, 739A, 1368.

Annual Responses: 11,540.

Annual Burden: 28,821.

SUPPLEMENTARY INFORMATION: Title: “Disaster Survey Worksheet.”

Description: Applicants who warrant Disaster Declaration.

Form No: 987.

Annual Responses: 4,000.

Annual Burden: 332.

ADDRESSES: Send all comments regarding whether these information collections are necessary for the proper performance of the function of the agency, whether the burden estimates are accurate, and if there are ways to minimize the estimated burden and enhance the quality of the collections, to Carol Fendler, Director, Office of Licensing and Program Standards, Small Business Administration, 409 3rd Street SW., Suite 6300, Washington, DC 20416.

FOR FURTHER INFORMATION CONTACT: Carol Fendler, Director, 202-205-7559 or Curtis B. Rich, Management Analyst, 202-205-7030.

SUPPLEMENTARY INFORMATION: Title: “Request for Information Concerning Portfolio Financing.”

Description: SBIC Investment Companies.

Form No: 857.

Annual Responses: 2,160.

Annual Burden: 2,160.

SUPPLEMENTARY INFORMATION: Title: “Financial Institution Confirmation Form”.

Description: SBIC Investment Companies.

Form No: 860.

Annual Responses: 1,500.

Annual Burden: 750.

Title: “SBIC License Application; Statement of Personal History and Qualification of Management”.

Description: SBIC Investment Companies.

Form No's: 415, 415A.

Annual Responses: 450.

Annual Burden: 14,400.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street SW., Suite 8300, Washington, DC 20416.

FOR FURTHER INFORMATION CONTACT: Sandra Johnston, Program Analyst, 202-205-7528 or Curtis B. Rich, Management Analyst, 202-205-7030.

SUPPLEMENTARY INFORMATION: Title: “PRIME (Program for Investment in Microentrepreneurs”).

Description: Disadvantaged Microentrepreneurs.

Form No: N/A.

Annual Responses: 500.

Annual Burden: 40,000.

Jacqueline White,
Chief, Administrative Information Branch.

[FR Doc. 03-28403 Filed 11-12-03; 8:45 am]

BILLING CODE 8025-01-P